DEPARTMENT OF LABOR

Employment and Training Administration

Temporary Extended Unemployment Compensation Program Reports; Proposed Collection; Comment Request

ACTION: Notice.

SUMMARY: The Department of Labor, as part of its continuing effort to reduce paperwork and respondent burden, conducts a preclearance consultation program to provide the general public and Federal agencies with an opportunity to comment on proposed and/or continuing collections of information in accordance with the Paperwork Reduction Act of 1995 (PRA95) [44 U.S.C. 3506(c)(2)(A)]. This program helps to ensure that requested data can be provided in the desired format, reporting burden (time and financial resources) is minimized, collection instruments are clearly understood, and the impact of collection requirements on respondents can be properly assessed. Currently, the Employment and Training Administration (ETA) is soliciting comments concerning the proposed extension of approval for the collection of reports concerning the Temporary Extended Unemployment Compensation (TEUC) program. A copy of the proposed information collection request (ICR) can be obtained by contacting the office listed below in the addressee section of this notice.

DATES: Written comments must be submitted to the office listed in the addresses section below on or before October 15, 2002.

ADDRESSES: Thomas Stengle, U.S. Department of Labor, Employment and Training Administration, Room S-4231, 200 Constitution Ave. NW., Washington, DC 20210. Phone number: 202-693-2991. Fax: 202-693-3229. (These are not toll free numbers.) e-mail: tstengle@doleta.gov.

SUPPLEMENTARY INFORMATION:

I. Background

The TEUC program was created under Public Law 107-147. This program allows for the application for and receipt of additional weeks of unemployment compensation under certain circumstances. This program is scheduled to expire December 31, 2002. In order to track participation in the program, plan for workloads, and plan for and distribute budget allocations, it is essential that certain basic data be collected and maintained. The collection of this information has previously been approved through an emergency clearance process through November 30, 2002. The TEUC program is currently due to expire December 28, 2002, and ETA is requesting that reporting for all reports continue for twelve full months or four full quarters after the last payable week of the TEUC program. However, to provide for potential congressional extensions of this program, ETA is seeking approval of a 2 year extension for this collection package.

II. Review Focus

The Department of Labor is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submissions of responses.

III. Current Actions

This is a request for OMB approval under the Paperwork Reduction Act of 1995 (44 U.S.C. 3506(c)(2)(A)) for continuing an existing collection of information previously approved and assigned OMB Control No. 1205-0009.

Type of Review: Extension.

Agency: Employment and Training Administration.

Title: Temporary Extended Unemployment Compensation Reports

OMB Number: 1205-0433.

Agency Numbers: ETA 207, ETA 218, ETA 227, ETA 539, ETA 2112, ETA 5130, ETA 5159.

Affected Public: State Government.

Cite/Reference/Form/etc: ETA 207, ETA 218, ETA 227, ETA 539, ETA 2112, ETA 5130, ETA 5159.

Total Respondents: 53.

Frequency: Monthly.

Total Responses: 5300.

Average Time per Response: .33 hours.

Estimated Total Burden Hours: 1,787 hours per year.

Total Burden Cost (capital/startup): $0.

Total Burden Cost (operating/maintaining): $0.

Comments submitted in response to this comment request will be summarized and/or included in the request for Office of Management and Budget approval of the information collection request; they will also become a matter of public record.

Dated: August 8, 2002.
Grace A. Kilbane,
Administrator, Office of Workforce Security.

[FR Doc. 02-20611 Filed 8-13-02; 8:45 am]

BILLING CODE 4510-30-P